DEPARTMENT OF TRANSPORTATION

Federal Aviation Administration

Advisory Circular 33.75-1A, Guidance Material for 14 CFR 33.75, Safety Analysis

AGENCY: Federal Aviation Administration (FAA), DOT.

ACTION: Notice of issuance of advisory circular.

SUMMARY: This notice announces the issuance of Advisory Circular (AC) 33.75-1A, Guidance Material for 14 CFR 33.75. This advisory circular (AC) provides guidance and describes acceptable methods, but not the only methods, for demonstrating compliance with the safety analysis requirements of § 33.75 of Title 14 of the Code of Federal Regulations (14 CFR). The information provided in this AC replaces the guidance in AC 33.75-1, issued on March 4, 2005.

DATES: The Engine and Propeller Directorate issued AC 33.75-1A on September 26, 2007.

FOR FURTHER INFORMATION CONTACT: The Federal Aviation Administration, Attn: Robert Grant, Engine and Propeller Standards Staff, ANE-110, 12 New England Executive Park, Burlington, MA 01803-5299; telephone: (781) 238-7739; fax (781) 238-7199; e-mail: robert.grant@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 33.75-1A may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.faa.gov/regulations_policies (then click on “Advisory Circulars”.

(Authority: 49 U.S.C. 106(g), 40113, 44701-44702, 44704).
Issued in Burlington, Massachusetts, on September 26, 2007.
Thomas A. Boudreau,
Acting Manager, Engine and Propeller Directorate, Aircraft Certification Service.

[FR Doc. 07-5103 Filed 10-16-07; 8:45 am]

BILLING CODE 4910-13-M